DEPARTMENT OF ENERGY

Federal Energy Regulatory Commission

[Docket No. PF15-4-000]

Gulf South Pipeline Company, LP; Notice of Intent To Prepare an Environmental Assessment for the Planned Coastal Bend Header Project and Request for Comments on Environmental Issues

The staff of the Federal Energy Regulatory Commission (FERC or Commission) will prepare an environmental assessment (EA) that will discuss the environmental impacts of the Coastal Bend Header Project (Project) involving construction and operation of facilities by Gulf South Pipeline Company, LP (Gulf South) in southeastern Texas. The Commission will use this EA in its decision-making process to determine whether construction and operation of the Project is in the public convenience and necessity.

This notice announces the opening of the scoping process the Commission will use to gather input from the public and interested agencies on the Project. Your input during the scoping process will help the Commission staff determine what issues need to be evaluated in the EA. The Commission staff will also use the scoping process to help determine whether preparation of an environmental impact statement is more appropriate for this Project based upon the potential significance of the anticipated levels of impact. Please note that the scoping period will close on April 3, 2015. This is not your only public input opportunity; please refer to the Environmental Review Process flow chart in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Further details on how to submit written comments are in the Public Participation section of this notice. If you sent comments on this project to the Commission before the opening of this docket on November 5, 2014, you will need to file those comments in Docket No. PF15-4-000 to ensure they are considered as part of this proceeding.

This notice is being sent to the Commission's current environmental mailing list for this Project. State and local government officials are asked to notify their constituents of this planned Project and encourage them to comment on their areas of concern.

If you are a landowner receiving this notice, a company representative may contact you about the acquisition of an easement to construct, operate, and maintain the planned facilities. The company would seek to negotiate a mutually acceptable agreement. However, if the Commission approves the Project, that approval conveys with it the right of eminent domain. Therefore, if easement negotiations fail to produce an agreement, Gulf South could initiate condemnation proceedings where compensation would be determined in accordance with state law.

A fact sheet prepared by the FERC entitled “An Interstate Natural Gas Facility on My Land? What Do I Need to Know?” is available for viewing on the FERC Web site (www.ferc.gov). This fact sheet addresses a number of typically asked questions, including the use of eminent domain and how to participate in the Commission's proceedings.

Summary of the Planned Project

Gulf South plans to construct a new gas pipeline in Wharton and Brazoria Counties, Texas, a new compressor station in Wharton County along the new pipeline, and two new compressor stations and upgrades at two compressor stations along Gulf South's existing Index 129 pipeline in Fort Bend, Harris, Polk, and Sabine Counties, Texas. The new pipeline would enable delivery of 1.54 billion cubic feet per day (bcf/d) of natural gas to the proposed Freeport Liquefied Natural Gas (LNG) Export Terminal near Freeport, Texas. The general locations of the planned pipeline facilities are depicted in the figures included in Appendix 2.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the Additional Information section on page 7 of this notice.

Specifically, the Project would include construction and operation of the following facilities:

• 64 miles of 36-inch diameter pipeline, called the Coastal Bend Header, commencing at a new interconnect with Tennessee Gas Pipeline Company, LLC northwest of Hungerford in Wharton County, Texas and terminating at the existing Freeport LNG Stratton Ridge meter site near Clute in Brazoria County, Texas;

• one new 93,500-horsepower (hp) gas-fired compressor station, called the Wilson Compressor Station, in Wharton County, Texas;

• one new 26,000-hp electric motor driven compressor station, called the Brazos Compressor Station, in Fort Bend County, Texas;

• one new 10,000-hp electric motor driven compressor station, called the North Houston Compressor Station, at an existing Gulf South property in Harris County, Texas;

• piping modifications within the fence line at Gulf South's existing Goodrich Compressor Station along the Index 129 pipeline in Polk County, Texas;

• piping modifications and a new 15,900-hp gas-fired compressor unit within the fence line at Gulf South's former Magasco Compressor Station along the Index 129 pipeline in Sabine County, Texas; and

• seven interconnects with various interstate and intrastate gas pipelines, including an interconnect with Gulf South's Index 129 pipeline, which Gulf South plans to construct at a later time under its blanket certificate authority.

Gulf South plans to begin Project construction in spring 2017 if all required permits, certificates, and authorizations are obtained. Gulf South's planned in-service date for Project facilities is spring 2018.

Land Requirements for Construction

Gulf South is still in the planning phase for the project, and workspace requirements have not been finalized. However, based on currently available plans, approximately 42 percent of the Coastal Bend Header pipeline route parallels existing pipeline, utility, or road rights-of-way. Pipeline construction would directly affect approximately 991 acres of land temporarily during construction, and 480 acres would be retained as permanent right-of-way. Construction of the new Wilson and Brazos Compressor Stations would impact a total of approximately 57 acres temporarily and 20 acres permanently. Construction of the new North Houston Compressor Station would impact approximately 12 acres temporarily and 6 acres permanently, all within Gulf South's existing property line at that site. The upgrades to the existing Goodrich Compressor Station and the former Magasco Compressor Station would impact a total of approximately 15 acres temporarily and 9 acres permanently, all within the existing fence lines of those facilities. Metering, regulating, mainline valve, and other ancillary facilities would affect a total of approximately 16 acres during construction and 13 acres permanently.

The EA Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EA on the important environmental issues. By this notice, the Commission requests public comments on the scope of the issues to address in the EA. All comments received will be considered during the preparation of the EA.

³ “Us,” “we,” and “our” refer to the environmental staff of the Commission's Office of Energy Projects.

In the EA we will discuss impacts that could occur as a result of the construction and operation of the planned Project under these general headings:

• Geology and soils;

• water resources;

• wetlands and vegetation;

• fish and wildlife including migratory birds;

• threatened and endangered species;

• land use, recreation, and visual resources;

• air quality and noise;

• cultural resources;

• socioeconomics;

• reliability and safety; and

• cumulative environmental impacts.

We will also evaluate reasonable alternatives to the planned Project or portions of the Project, including the no action alternative, and make recommendations on how to minimize or avoid impacts on affected resources.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA. In addition, representatives from FERC participated in the public open houses sponsored by Gulf South in the Project area in January and February 2015 to explain the environmental review process to interested stakeholders.

Our independent analysis of the issues will be presented in the EA. If the Commission staff determines the preparation of an EA is appropriate, the EA will be placed in the public record and be published and distributed to the public. A comment period will be allotted when the EA is noticed. We will consider all comments on the EA before we make our recommendations to the Commission. To ensure your comments are considered, please carefully follow the instructions in the Public Participation section beginning on page 6 of this notice.

With this notice, we are asking agencies with jurisdiction by law and/or special expertise with respect to the environmental issues related to this Project to formally cooperate with us in the preparation of the environmental document.⁴ Agencies that would like to request cooperating agency status should follow the instructions for filing comments provided under the Public Participation section of this notice.

⁴ The Council on Environmental Quality regulations addressing cooperating agency responsibilities are at Title 40, Code of Federal Regulations, § 1501.6.

Consultations Under Section 106 of the National Historic Preservation Act

In accordance with the Advisory Council on Historic Preservation's regulations for Section 106 of the National Historic Preservation Act, we are using this notice to initiate consultation with the Texas Historical Commission which has been given the role of the State Historic Preservation Officer (SHPO) for Texas, and to solicit the SHPO's view and those of other government agencies, interested Indian tribes, and the public on the Project's potential effects on historic properties.⁵ We will define the Project-specific Area of Potential Effects in consultation with the SHPO as the Project is further developed. Our environmental document for the Project will document our findings of the impacts on historic properties and summarize the status of consultations under Section 106.

⁵ The Advisory Council on Historic Preservation regulations are at Title 36, Code of Federal Regulations, Part 800. Those regulations define historic properties as any prehistoric or historic district, site, building, structure, or object included in or eligible for inclusion in the National Register for Historic Places.

Currently Identified Environmental Issues

We have already identified several issues that we think deserve attention based on a preliminary review of the Project facilities and information provided by Gulf South, comments made to us at Gulf South's open houses, and preliminary consultations with other agencies. It is worth noting that Gulf South has already made several modifications to the pipeline route and other Project facilities filed on December 12, 2014, based on feedback from affected landowners and other stakeholders at the open house meetings and through other ongoing landowner and agency negotiations. The following preliminary list of issues may be changed based on your comments and our analysis:

• Gulf South has identified 92 waterbodies during preliminary field surveys that would be crossed within the proposed Project area. Five are characterized as major waterbodies with crossing widths of greater than 100 feet: Brazos River, Dry Bayou, an unnamed manmade pond, Bastrop Bayou, and Big Slough. Thirty-three of the waterbodies are characterized as intermediate, with a crossing width of greater than 10 feet but less than or equal to 100 feet, and 54 of the waterbodies are characterized as minor, with a crossing width of less than or equal to 10 feet.

• Gulf South has identified 40 wetlands during preliminary field surveys that would be crossed within the Project area. These include 22 palustrine emergent wetlands, 4 palustrine scrub shrub wetlands, and 14 palustrine forested wetlands, totaling approximately 24 acres.

• Temporary and permanent impacts on land use including farming, ranching, oil and gas production, sulfur extraction, and residential areas, and the development of appropriate mitigation and restoration measures. Gulf South has currently identified only one residence (house) and nine other structures (barns, storage buildings, etc.) within 50 feet of the construction right-of-way.

• Potential impacts on fish and wildlife habitat, including potential impacts on federally- and state-listed threatened and endangered species.

• Potential visual effects of the aboveground facilities on surrounding areas.

• Potential impacts on air quality and noise associated with construction and operation of the pipeline and compression facilities.

• Public safety and hazards associated with the transport of natural gas.

• Potential cumulative impacts associated with the recently authorized Freeport LNG Terminal and any other planned or proposed major projects in the vicinity.

Public Participation

You can make a difference by providing us with your specific comments or concerns about the Project. Your comments should focus on the potential environmental effects, reasonable alternatives, and measures to avoid or minimize environmental impacts. The more specific your comments, the more useful they will be. To ensure that your comments are timely and properly recorded, please send your comments so the Commission receives them in Washington, DC on or before April 3, 2015.

For your convenience, there are three methods you can use to submit your comments to the Commission. In all instances, please reference the Project docket number (PF15-4-000) with your submission. The Commission encourages electronic filing of comments and has expert staff available to assist you at (202) 502-8258 or efiling@ferc.gov.

1. You can file your comments electronically using the eComment feature located on the Commission's Web site (www.ferc.gov) under the link to Documents and Filings. This is an easy method for interested persons to submit brief, text-only comments on a project;

2. You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

3. You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

When an EA is published for distribution, copies will be sent to the environmental mailing list for public review and comment. If you would prefer to receive a paper copy of the document instead of the CD version, or would like to remove your name from the mailing list, please return the attached Information Request (Appendix 3).

Becoming an Intervenor

Once Gulf South files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until a formal application for the Project is filed with the Commission.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-4). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of filings, document summaries, and direct links to the documents. Go to www.ferc.gov/esubscribenow.htm.

Public meetings or site visits will be posted on the Commission's calendar located at www.ferc.gov/EventCalendar/EventsList.aspx along with other related information.

Finally, Gulf South has established a Web site for the Project at http://www.gulfsouthpl.com/ExpansionProjects.aspx?id=4294967425. The Web site includes a description of the Project, permitting schedules and calendars, frequently asked questions and responses, and links to related press releases and news articles. You can also request additional information directly from Gulf South at (844) 211-6282 or by clicking on the following link on the Gulf South Web site that will take you to an online submittal form: http://www.gulfsouthpl.com/ExpansionProjects.aspx?ekfrm=4294967452.

Dated: March 4, 2015.
Kimberly D. Bose,
Secretary.

[FR Doc. 2015-05692 Filed 3-12-15; 8:45 am]

BILLING CODE 6717-01-P